DEPARTMENT OF COMMERCE

National Oceanic and Atmospheric Administration

[RTID 0648-XA807]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Gulf of Mexico cobia, Gulf of Mexico lane snapper, the Gulf of Mexico jacks complex, South Atlantic golden tilefish, and Western and Central Pacific Ocean silky shark are now subject to overfishing; Sacramento River fall-run Chinook salmon, Klamath River fall-run Chinook salmon, Queets coho salmon, Juan de Fuca coho salmon, and Saint Matthew Island blue king crab are still overfished; and Pacific bluefin tuna is still subject to overfishing and overfished. NMFS, on behalf of the Secretary, notifies the appropriate regional fishery management council (Council) whenever it determines that a stock or stock complex is subject to overfishing, overfished, or approaching an overfished condition.

FOR FURTHER INFORMATION CONTACT: Kathryn Frens, (301)-427-8523.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that Gulf of Mexico cobia, Gulf of Mexico lane snapper, and the Gulf of Mexico jacks complex are now subject to overfishing. The Gulf of Mexico cobia determination is based on the most recent assessment, completed in 2020 and using data through 2018, which indicates that this stock is subject to overfishing because the fishing mortality rate was above the threshold. Gulf of Mexico lane snapper and the Gulf jacks complex were not assessed in 2020, and catch data from 2019 support a determination that these stocks are subject to overfishing because catch for each stock exceeded their respective thresholds. NMFS has notified the Gulf of Mexico Fishery Management Council of the requirement to end and prevent overfishing on lane snapper and the jacks complex. NMFS has notified the Gulf of Mexico Fishery Management Council and the South Atlantic Fishery Management Council of the requirement to end and prevent overfishing on cobia.

NMFS has determined that South Atlantic golden tilefish is now subject to overfishing. This stock was not assessed in 2020, and catch data from 2019 support a determination that this stock is subject to overfishing because the catch was above the threshold. NMFS has notified the South Atlantic Fishery Management Council of the requirement to end and prevent overfishing on this stock.

NMFS has determined that Western and Central Pacific Ocean (WCPO) silky shark is now subject to overfishing. The determination for silky shark is based on the most recent assessment, completed in 2018 using data through 2016, which indicates that the stock is subject to overfishing because the fishing mortality rate is above the threshold. NMFS has determined that section 304(i) of the Magnuson-Stevens Act applies because the overfishing of WCPO silky shark is due largely to excessive international fishing pressure. NMFS has informed the Western Pacific Fishery Management Council of its obligations for domestic and international management under Magnuson-Stevens Act section 304(i) to address domestic and international impacts.

NMFS has determined that Sacramento River fall-run Chinook salmon, Klamath River fall-run Chinook salmon, Queets coho salmon, and Juan de Fuca coho salmon are still overfished. These determinations are based on the most recent assessments, completed in 2020 and using data from 2017-2019 for the two Chinook stocks, and data from 2016-2018 for the two coho stocks. The assessments support determinations that all four stocks remain overfished because the three-year geometric mean of the annual spawning escapement for each stock falls below its respective threshold. Of these four salmon stocks, only the two Chinook stocks are domestically managed. The Council has limited ability to control the two internationally-managed coho stocks in waters outside its jurisdiction. The Pacific Fishery Management Council (Pacific Council) adopted rebuilding plans for all four overfished salmon stocks in 2019. NMFS continues to work with the Pacific Council to implement these plans.

NMFS has further determined that Pacific bluefin tuna continues to be both subject to overfishing and overfished. This determination is based on the most recent assessment, conducted by the International Scientific Committee for Tuna and Tuna-like Species in the North Pacific Ocean (ISC), completed in 2020 using data through 2018. Applying domestic status determination criteria, this stock is still subject to overfishing because the fishing mortality rate is above its threshold, and is still overfished because the spawning stock biomass is below its threshold. NMFS continues to work with the Pacific Council to end overfishing and rebuild this stock.

NMFS has determined that Saint Matthew Island blue king crab is still overfished. This determination is based on the most recent assessment, completed in 2020 using data through 2020, which indicates that the stock is overfished because the biomass estimate remains below its threshold. NMFS continues to work with the North Pacific Fishery Management Council to rebuild this stock.

Dated: February 11, 2021.
Jennifer M. Wallace,
Acting Director, Office of Sustainable Fisheries, National Marine Fisheries Service.

[FR Doc. 2021-03147 Filed 2-16-21; 8:45 am]

BILLING CODE 3510-22-P